DEPARTMENT OF COMMERCE

International Trade Administration

[A-580-859]

Notice of Final Determination of Sales at Less Than Fair Value: Light-Walled Rectangular Pipe and Tube from the Republic of Korea

AGENCY: Import Administration, International Trade Administration, Department of Commerce.

SUMMARY: On January 31, 2008, the U.S. Department of Commerce (the Department) published a preliminary determination in the antidumping duty investigation of light-walled rectangular pipe and tube from the Republic of Korea. See Notice of Preliminary Determination of Sales at Less Than Fair Value and Postponement of Final Determination: Light-Walled Rectangular Pipe and Tube From the Republic of Korea, 73 FR 5794 (January 31, 2008) (Preliminary Determination).

We continue to find that light-walled rectangular pipe and tube from the Republic of Korea is being, or is likely to be, sold in the United States at less than fair value (LTFV), as provided in section 733(b) of the Tariff Act of 1930, as amended (the Tariff Act). The estimated margins of sales at LTFV are listed below in the section entitled “Continuation of Suspension of Liquidation.”

EFFECTIVE DATE: June 24, 2008.

FOR FURTHER INFORMATION CONTACT: Mark Flessner or Robert James, AD/CVD Operations, Office 7, Import Administration, International Trade Administration, U.S. Department of Commerce, 14th Street and Constitution Avenue, NW, Washington, DC 20230; telephone: (202) 482-6312 or (202) 482-0649, respectively.

SUPPLEMENTARY INFORMATION:

Background

On January 31, 2008, the Department published the preliminary determination and invited interested parties to comment. See Preliminary Determination. The petitioners in this investigation are Allied Tube and Conduit, Atlas Tube, Bull Moose Tube Company, California Steel and Tube, EXLTUBE, Hannibal Industries, Leavitt Tube Company, Maruichi American Corporation, Searing Industries, Southland Tube, Vest Inc., Welded Tube, and Western Tube and Conduit (Petitioners). The respondents are Ahshin Pipe & Tube, Dong-A Steel Pipe Co. Ltd., Han Gyu Rae Steel, Co., Ltd., HiSteel Co. Ltd., Jinbang Steel Co. Ltd., Joong Won, Kukje Steel Co., Ltd., Miju Steel Mfg. Co. Ltd., Nexteel Co., Ltd. (Nexteel), SeAH Steel Corporation, Ltd., and Yujin Steel Industry Co.

Only Nexteel responded fully to the Section A, B, C, and D questionnaires. (For a complete background concerning the involvement of companies other than Nexteel, see Preliminary Determination.) We gave interested parties an opportunity to comment on the preliminary determination. We received a case brief from Petitioners on May 9, 2008, and a rebuttal brief from Nexteel on May 16, 2008. We did not receive a request for a public hearing.

Based upon the results of verification, we have made no changes to the dumping calculations; a revision of Nexteel’s databases was, however, required. On December 26, 2007, Petitioners timely filed with the Department an allegation of targeted dumping with respect to Nexteel. Nexteel filed comments regarding Petitioners’ allegation on January 3, 2008. Upon review of Petitioners’ allegation, the Department determined that further information was needed in order to adequately analyze Petitioners’ allegation. The Department issued a supplemental questionnaire to Petitioners on January 14, 2008, requesting that they address deficiencies identified by the Department. See Letter from Richard O. Weible, Director, Office 7, to Petitioners, dated January 14, 2008. Because there was a need for supplemental information regarding the allegation, we did not have sufficient bases for making a finding regarding Petitioners’ allegations of targeted dumping prior to the preliminary determination. On January 25, 2008, Petitioners submitted a response to the Department’s supplemental targeted dumping questionnaire.

We conducted a verification of Nexteel’s cost of production responses on March 6-12, 2008. See memorandum from Christopher J. Zimpo, Accountant, to the File, entitled “Verification of the Cost Response of Nexteel Co., Ltd. Antidumping Investigation of Light-Walled Rectangular Pipe and Tube From the Republic of Korea,” dated April 25, 2008 (Cost Verification Report). We conducted a verification of Nexteel’s sales responses on March 13-18, 2008. See memorandum from Mark Flessner to the file entitled “Light-Walled Rectangular Pipe and Tube from the Republic of Korea: Verification of Nexteel Co., Ltd.,” dated May 1, 2008 (Sales Verification Report).

On May 2, 2008, we placed on the record the memorandum from Mark Flessner, Case Analyst, to Richard O. Weible, Office Director, entitled “Antidumping Duty Investigation of Light-Walled Rectangular Pipe and Tube from Korea: Final Analysis on Targeting Dumping” (Targeted Dumping Memorandum). For a discussion of our findings, see the section below entitled “Targeted Dumping.”

We received a case brief from Petitioners on May 9, 2008. We received a rebuttal brief from Nexteel on May 16, 2008. We received no request for a public hearing, so no hearing was held.

Period of Investigation

The period of investigation (POI) is April 1, 2006, through March 31, 2007.

Scope of Investigation

The merchandise that is the subject of this investigation is certain welded carbon quality light-walled steel pipe and tube, of rectangular (including square) cross section, having a wall thickness of less than 4 mm. The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to this investigation is currently classified under the Harmonized Tariff Schedule of the United States (HTSUS) subheadings 7306.61.50.00 and 7306.61.70.60. While HTSUS subheadings are provided for convenience and Customs purposes, our written description of the scope of this investigation is dispositive.

Fair Value Comparisons

We calculated export price and normal value based on the same methodologies used in the Preliminary Determination. We used the home market and U.S. sales databases submitted by Nexteel after verification, which included minor corrections presented at the beginning of verification and findings from verification. See Sales Verification Report.

Cost of Production and Constructed Value

We calculated the cost of production and constructed value for Nexteel based on the same methodologies used in the Preliminary Determination.

Verification

As provided in section 782(i)(1) of the Tariff Act, we verified the information submitted by respondents during the periods March 6-12, 2008 (cost) and March 13-18, 2008 (sales) (see Cost Verification Report and Sales Verification Report). We used standard verification procedures, including examination of relevant accounting and production records, as well as original source documents provided by the respondents.

Analysis of Comments Received

The issues raised in the case and rebuttal briefs by parties to this investigation are addressed in the memorandum from Stephen Claeys, Deputy Assistant Secretary for Import Administration, to David Spooner, Assistant Secretary for Import Administration, entitled “Issues and Decision Memorandum for Final Determination of Sales at Less Than Fair Value: Light-Walled Rectangular Pipe and Tube from the Republic of Korea” (Issues and Decisions Memorandum), dated June 13, 2008, which is hereby adopted by this notice. The Issues and Decisions Memorandum is on file in the Central Records Unit (CRU), room 1117 of the Department of Commerce main building and can be accessed directly at http://ia.ita.doc.gov/frn. The paper copy and electronic version of the Issues and Decisions Memorandum are identical in content. A list of the issues addressed in the Issues and Decisions Memorandum is appended to this notice.

Targeted Dumping

We determine that Petitioners’ allegations of targeted dumping failed to provide a reasonable basis to find a pattern of export prices for comparable merchandise that differ significantly among purchasers or regions. We determine further that Petitioners had not demonstrated that any such differences could not be taken into account using the average-to-average methodology, pursuant to section 777A(d)(1)(B) of the Tariff Act. We conclude that, for the final determination, we should continue to utilize the average-to-average methodology in calculating the final margins for Nexteel for the reasons set forth in the Issues and Decisions Memorandum.

Continuation of Suspension of Liquidation

In accordance with section 735(c)(1)(B)(ii) of the Tariff Act, we are directing U.S. Customs and Border Protection (CBP) to continue to suspend liquidation of all imports of subject merchandise from Korea that are entered, or withdrawn from warehouse, for consumption on or after January 31, 2008, the date of publication of the Preliminary Determination in the Federal Register. CBP shall continue to require a cash deposit or the posting of a bond equal to the weighted-average amount by which the NV exceeds the EP, as indicated in the chart below. These suspension-of-liquidation instructions will remain in effect until further notice.

The weighted-average dumping margins are as follows:

Producer/Exporter | Weighted-Average Margin (Percentage)
Nexteel Co., Ltd. | 1.30 (de minimis)
Dong-A Steel Pipe Co. Ltd. | 30.66
HiSteel Co. Ltd. | 30.66
Jinbang Steel Co. Ltd. | 30.66
Joong Won | 30.66
Miju Steel Mfg. Co., Ltd. | 30.66
Yujin Steel Industry Co. | 30.66
Ahshin Pipe & Tube | 30.66
Han Gyu Rae Steel Co., Ltd. | 30.66
Kukje Steel Co., Ltd. | 30.66
SeAH Steel Corporation, Ltd. | 15.98
All others | 15.98

ITC Notification

In accordance with section 735(d) of the Tariff Act, we have notified the International Trade Commission (ITC) of our determination. As our final determination is affirmative, the ITC will, within 45 days, determine whether these imports are materially injuring, or threatening material injury to, the United States industry. If the ITC determines that material injury, or threat of material injury, does not exist, the proceeding will be terminated and all securities posted will be refunded or canceled. If the ITC determines that such injury does exist, the Department will issue an antidumping duty order.

Notification to Interested Parties

This notice also serves as a reminder to parties subject to administrative protective order (APO) of their responsibility concerning the disposition of proprietary information disclosed under APO in accordance with 19 CFR 351.305. Timely notification of return or destruction of APO materials, or conversion to judicial protective order, is hereby requested. Failure to comply with the regulations and the terms of an APO is a sanctionable violation.

This determination is issued and published in accordance with sections 735(d) and 777(i)(1) of the Tariff Act.

Dated: June 13, 2008.
David M. Spooner,
Assistant Secretary for Import Administration.

APPENDIX

List of Issues

1. Initiation of Targeted Dumping Analysis

2. Use of Offsets in Calculating Dumping Margin

[FR Doc. E8-14255 Filed 6-?23-08; 8:45 am]

BILLING CODE 3510-DS-S